FEDERAL COMMUNICATIONS COMMISSION

[FR ID 90341]

Open Commission Meeting Wednesday, June 8, 2022

June 2, 2022.

The Federal Communications Commission will hold an Open Meeting on the subjects listed below on Wednesday, June 8, 2022, which is scheduled to commence at 10:30 a.m.

Due to the current COVID-19 pandemic and related agency telework and headquarters access policies, this meeting will be in an electronic format and will be open to the public only on the internet via live feed from the FCC's web page at www.fcc.gov/live and on the FCC's YouTube channel.

Item No. | Bureau | Subject
1 | Wireless Tele-Communications | Title: Facilitating Access to Spectrum for Offshore Uses and Operations (WT Docket No. 22-204). Summary: The Commission will consider a Notice of Inquiry seeking comment on whether changes in the Commission's rules and policies are needed to facilitate the development of commercial and private wireless networks offshore.
2 | Public Safety & Homeland Security | Title: Improving Wireless 911 Call Routing (PS Docket No. 18-64). Summary: The Commission will consider a Public Notice to examine recent technological improvements to and deployments of location-based routing for wireless 911 calls, as well as steps the Commission could take to help reduce misrouted 911 calls.
3 | Media | Title: Preserving Local Radio Programming (MB Docket No. 03-185). Summary: The Commission will consider a Notice of Proposed Rulemaking regarding a proposal to allow certain channel 6 low power television stations to continue to provide FM radio service as ancillary or supplementary service under specified conditions.
4 | Enforcement | Title: Enforcement Bureau Action. Summary: The Commission will consider an enforcement action.
5 | Wireline Competition | Title: Affordable Connectivity Program Transparency Data Collection (WC Docket No. 21-450). Summary: The Commission will consider a Notice of Proposed Rulemaking seeking comment on a statutorily mandated annual data collection relating to the price and subscription rates of internet service offerings received by households enrolled in the Affordable Connectivity Program from participating providers.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2022-12689 Filed 6-10-22; 8:45 am]

BILLING CODE 6712-01-P